DEPARTMENT OF TRANSPORTATION

Federal Aviation Administration

Agency Information Collection Activities: Requests for Comments; Clearance of Renewed Approval of Information Collection: Airport Grant Program

AGENCY: Federal Aviation Administration (FAA), DOT.

ACTION: Notice and request for comments.

SUMMARY: In accordance with the Paperwork Reduction Act of 1995, FAA invites public comments about our intention to request the Office of Management and Budget (OMB) approval to revise a previously approved information collection. The FAA collects data from airport sponsors and planning agencies to determine eligibility, and to ensure proper use of Federal Funds and project accomplishment for the Airports Grants Program.

DATES: Written comments should be submitted by February 16, 2016.

ADDRESSES: Send comments to the FAA at the following address: Ronda Thompson, Room 441, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0569.

Title: Airport Grants Program.

Form Numbers: FAA Forms 5100-100, 5100-101, 5100-108, 5100-125, 5100-126, 5370-1, 5100-110, 5100-128, 5100-129, 5100-130, 5100-131, 5100-132, 5100-133, 5100-134, 5100-135, 5100-136, 5100-137, 5100-138, 5100-139, 5100-140, 5100-141, 5100-142.

Type of Review: Revision of an information collection.

Background Codification of Certain U.S. Transportation Laws at 49 U.S.C., repealed the Airport and Airway Improvement Act of 1982, as amended, and the Aviation Safety and Noise Abatement Act of 1979, as amended, and re-codified them without substantive change at Title 49, U.S.C., which is referred to as the “Act”. The Act provides funding for airport planning and development projects at airports included in the National Plan of Integrated Airport Systems. The Act also authorizes funds for noise compatibility planning and to carry out noise compatibility programs. The information required by this program is necessary to protect the Federal interest in safety, efficiency, and utility of the Airport. Data is collected to meet report requirements of 2 CFR part 200 for certifications and representations, financial management and performance measurement.

Respondents: Approximately 12,607 applicants.

Frequency: Information is collected on occasion.

Estimated Average Burden per Response: 9 hours.

Estimated Total Annual Burden: 117,699 hours.

Issued in Washington, DC, on December 9, 2015.
Ronda Thompson,
FAA Information Collection Clearance Officer, Performance, Policy, and Records Management Branch, ASP-110.

[FR Doc. 2015-31602 Filed 12-15-15; 8:45 am]

BILLING CODE 4910-13-P